DEPARTMENT OF COMMERCE

International Trade Administration

[A-570-108]

Ceramic Tile From the People's Republic of China: Notice of Correction to the Antidumping Duty Order

AGENCY: Enforcement and Compliance, International Trade Administration, Department of Commerce.

SUMMARY: The U.S. Department of Commerce (Commerce) is issuing a correction to a previously published Federal Register notice pertaining to the antidumping duty order on ceramic tile from the People's Republic of China (China).

DATES: Applicable June 1, 2020.

FOR FURTHER INFORMATION CONTACT: Mark Flessner, AD/CVD Operations Office VI, Enforcement and Compliance, International Trade Administration, U.S. Department of Commerce, 1401 Constitution Avenue NW, Washington, DC 20230; telephone: (202) 482-6312.

SUPPLEMENTARY INFORMATION: On June 1, 2020, Commerce published in the Federal Register the notice of Ceramic Tile from the People's Republic of China: Antidumping Duty Order.¹ Due to a typographical error, the listing of the final estimated weighted-average dumping margins omitted one exporter-producer dumping margin and cash deposit rate:

¹ Ceramic Tile from the People's Republic of China: Antidumping Duty Order, 85 FR 33089 (June 1, 2020) (Order).

Exporter | Producer | Estimated weighted-average dumping margin (percent) | Cash deposit rate (adjusted for subsidy offsets) (percent)
Foshan Advance Import and Export Co., Ltd | Foshan Xinlianfa Ceramics Co., Ltd | 229.04 | 203.71

Properly placed, this entry would have appeared at page 33093 of the Order.

We are hereby correcting the Order to include the omitted exporter-producer dumping margin and cash deposit rate listed above.

This notice serves as a correction and is published in accordance with section 777(i) of the Tariff Act of 1930, as amended.

Dated: June 8, 2020.
Jeffrey I. Kessler,
Assistant Secretary for Enforcement and Compliance.

[FR Doc. 2020-12743 Filed 6-11-20; 8:45 am]

BILLING CODE 3510-DS-P